DEPARTMENT OF THE INTERIOR

Fish and Wildlife Service

Aquatic Nuisance Species Task Force Zebra Mussel Coordination Committee Meeting

AGENCY: Fish and Wildlife Service, Interior.

ACTION: Notice of meeting.

SUMMARY: This notice announces a meeting of the Aquatic Nuisance Species (ANS) Task Force Zebra Mussel Coordination Committee. The meeting topics are identified in the SUPPLEMENTARY INFORMATION.

DATES: The Zebra Mussel Coordination Committee will meet from 1 p.m. to 4:30 p.m., Monday, August 21, 2000 and 8 a.m. to 3 p.m., Tuesday, August 22, 2000.

ADDRESSES: The Zebra Mussel Coordination Committee Meeting will be held in the Magnolia Room at the Hilton Alexandria Mark Center, 500 Seminary Road, Alexandria, Virginia.

FOR FURTHER INFORMATION CONTACT: Sharon Gross, Executive Secretary, Aquatic Nuisance Species Task Force at 703-358-2308 or by e-mail at: sharon_gross@fws.gov or Dr. Ed Theriot, Zebra Mussel Coordination Committee Chair, at 601-634-2678.

SUPPLEMENTARY INFORMATION: Pursuant to section 10(a)(2) of the Federal Advisory Committee Act (5 U.S.C. App. I), this notice announces a field trip and meeting of the Aquatic Nuisance Species Task Force Zebra Mussel Coordination Committee. The ANS Task Force was established by the Nonindigenous Aquatic Nuisance Prevention and Control Act of 1990.

Topics to be covered during the Zebra Mussel Coordination Committee meeting include a review of the U.S. Army Corps of Engineers Zebra Mussel Research Program, an update on ANS Task Force activities, updates from each of the member agencies on agency zebra mussel activities, and a discussion of Committee actions to further coordination of zebra mussel activities.

Minutes of the meeting will be maintained by the Executive Secretary, Aquatic Nuisance Species Task Force, Suite 851, 4401 North Fairfax Drive, Arlington, Virginia 22203-1622, and will be available for public inspection during regular business hours, Monday through Friday.

Dated: July 31, 2000.
Everett Wilson,
Acting Co-Chair, Aquatic Nuisance Species Task Force, Acting Assistant Director—Fisheries and Habitat Restoration.

[FR Doc. 00-19770 Filed 8-3-00; 8:45 am]

BILLING CODE 4310-55-M